DEPARTMENT OF DEFENSE

Department of the Navy

Notice of Intent To Prepare an Environmental Impact Statement for Multiple Projects in Support of the Marine Barracks Washington, District of Columbia

AGENCY: Department of the Navy, DoD.

ACTION: Notice.

SUMMARY: Pursuant to Section (102)(2)(c) of the National Environmental Policy Act (NEPA) of 1969, and regulations implemented by the Council on Environmental Quality (40 Code of Federal Regulations [CFR] Parts 1500-1508), Department of the Navy (DoN) NEPA regulations (32 CFR Part 775), and United States Marine Corps (USMC) NEPA directives (Marine Corps Order P5090.2A, changes 1 and 2), the DoN intends to prepare an Environmental Impact Statement (EIS) for several proposed construction, repair, and renovation projects in support of the Marine Barracks Washington (MBW), District of Columbia (DC).

Dates and Addresses: The DoN, USMC, is initiating a 30-day public scoping process to identify community interests and local concerns to be addressed in the EIS, which starts with the publication of this Notice of Intent and ends on October 7, 2013. A public scoping meeting, using an informal open house format, will be held from 5:30 p.m. to 8:30 p.m. on September 24, 2013 at Tyler Elementary School, 1001 G St SE., Washington, DC 20390.

The public is invited to attend this meeting to view project-related displays, speak with USMC representatives, and submit verbal or written comments. All comments regarding the scope of issues that the USMC should consider during EIS preparation must be received prior to October 7, 2013 to be fully considered. Additional information concerning the meeting and the proposed alternatives is available on the EIS Web site at www.mbweis.com and will be announced in local and regional newspapers. Please submit requests for special assistance, sign language interpretation for the hearing impaired, or other auxiliary aids needed at the scoping meeting to the MBW Public Affairs Officer, Captain Jack Norton, at 202-433-6682 by September 13, 2013.

Concurrent with the NEPA process, the USMC is initiating National Historic Preservation Act Section 106 Consultation to determine the potential effects of the proposed action on historic properties. During the scoping meeting, one designated area of the room will focus on the Section 106 process and solicit public input on the identification of historic properties and potential effects of the proposed action on historic properties.

Submitting Comments: Federal, state, and local agencies and members of the public are encouraged to provide oral and written comments regarding the scope of the EIS, reasonable alternatives, and specific issues or topics of interest. There are three ways comments can be submitted: (1) In person at the public scoping open house meeting, (2) using the project's public Web site comment form at www.mbweis.com, or (3) providing written comments through U.S. mail. All comments on the scope of the EIS or any specific concerns regarding potential impacts to the environment should be submitted or postmarked no later than October 1, 2013. Comments submitted by mail should be sent to: Mr. William Sadlon, MBW CIMP EIS Project Manager, 1314 Harwood St. SE., Bldg. 212, Washington Navy Yard, DC 20374-5018.

The USMC will consider all comments received during the scoping period. A mailing list has been assembled to facilitate preparation of the EIS. This list includes DC and federal agencies with jurisdiction or other interests in the alternatives. In addition, the mailing list includes adjacent property owners and other interested parties, such as historic preservation groups. Those on this list will receive notices and documents related to EIS preparation. Anyone wishing to be added to the mailing list may request to be added at the project Web site www.mbweis.com or by contacting the EIS project manager at the address provided below.

FOR FURTHER INFORMATION CONTACT: Mr. William Sadlon, MBW EIS Project Manager, 1314 Harwood St. SE., Bldg. 212, Washington Navy Yard, DC 20374-5018.

SUPPLEMENTARY INFORMATION: The USMC is preparing an EIS to analyze the potential effects resulting from implementation of several construction, repair, and renovation projects at or proximate to the Marine Barracks Washington scheduled for completion within the next 5 years. The principal project to be analyzed is a land acquisition and construction project to replace a Bachelor Enlisted Quarters (BEQ) Complex (including supporting facilities and parking) currently housed in Building 20. Renovation and improvement projects include interior renovations to Buildings 7 and 8 at the Main Post; improvements to the MBW Annex gate at 7th and K Streets; and improvements to building facades, fencing, infrastructure, pedestrian amenities, and landscaping throughout the installation. The EIS is also intended to provide a programmatic analysis of the potential effects of several additional projects scheduled to occur in 2018 or later for which information sufficient to conduct detailed NEPA analysis is not yet available. Principal among these projects is the potential reuse of the Building 20 site. Other projects include renovation of Building 9 to accommodate relocation of units currently housed in temporary facilities aboard Washington Navy Yard, as well as some additional landscaping and maintenance projects. Once these actions become sufficiently ripe for detailed analysis, additional NEPA analysis will be completed.

The purpose of the proposed action is to address existing and anticipated facility deficiencies at MBW. The proposed action is needed to better support the functions of the USMC units assigned to the MBW and, in the case of the BEQ Complex replacement project, to meet current requirements for adequate space and mission support functions, space configurations, DoD Quality of Life standards, life safety, sustainability, and energy efficiency, and Anti-Terrorism and Force Protection (AT/FP) requirements. Building 20 cannot be renovated or redesigned within its existing footprint to meet those standards. The renovations for Buildings 7 and 8 are to upgrade the buildings to meet certain AT/FP and life safety standards, improve space utilization, and meet sustainability goals. The improvements to the MBW Annex gate at 7th and K Streets and improvements to building facades, fencing, infrastructure, and pedestrian amenities throughout the installation would blend MBW facilities with the neighborhood.

Alternatives Development: The action alternatives analyzed in the EIS regard implementation of specific projects. Sufficient detail is available to fully analyze some proposed projects in the EIS; other proposed projects are analyzed programmatically, with the expectation that additional NEPA analyses will be conducted when more detail is available.

The primary project to be analyzed in the EIS is the BEQ Complex replacement project, which includes the acquisition of land on which to construct the replacement facilities. The pre-NEPA agency and public engagement effort referred to as the Community Integrated Master Plan process that preceded this EIS effort provided a foundation for the required rigorous exploration of a reasonable range of alternative sites to meet the purpose and need with respect to the BEQ Complex replacement project. The following screening criteria were used to further refine and narrow the range of alternative sites for the BEQ Complex project.

The location must be within a 10-minute “reasonable walking distance” of the MBW Main Post Main Gate Entrance (defined as an approximately 2,000-foot radius of the Main Post Main Gate Entrance). The site must meet the minimum developable area requirements, including setback distances to meet AT/FP standards, while also complying with applicable laws governing height restrictions. The space requirement for the BEQ Complex is 191,405 square feet (SF), which includes supporting facilities and parking. Any site chosen must not be a site that currently provides or is planned to provide public services for DC residents, to include public housing, education, or public recreation services.

Based on the siting criteria, four potential sites have been identified for possible acquisition and development of facilities to meet the BEQ Complex replacement requirements. The four sites are defined in terms of squares and adjacent streets, as applicable. A “square” is the unit of land defined by the DC Surveyor that normally consists of a single city block and contains recorded tax lots.

Site A is a privately-owned 3.0-acre site composed of Square 929, Square 930, and L Street between 8th and 9th Streets. Site B is a privately-owned 1.8-acre site that encompasses Square 976 and a segment of L Street between 10th and 11th Streets. Site C comprises a portion of Square 853 just west of Washington Navy Yard in the Southeast Federal Center. The federally-owned 2.1-acre site is bound by M Street SE to the north and Tingey Street to the south. Site D, owned by the U.S. Navy, is approximately 2.2 acres and located on the northeast corner of Washington Navy Yard. It is bound by 11th Street SE to the east and M Street SE to the north and comprises portions of Squares 977 and 953 within the Washington Navy Yard boundary.

Implementation of the Site A alternative would require acquisition of both squares and closure of and construction on L Street between 8th and 9th Streets. Implementation of the 191,405 SF BEQ Complex at Site B would require the vehicular closure of L Street between 10th and 11th Streets and utilize the closed road right-of-way and a portion of existing Virginia Avenue Park open space buffer to satisfy vehicular AT/FP standoff requirements (while also not affecting use of the park). Implementation of Site C would allow for reduced AT/FP setbacks, given its adjacency to the Washington Navy Yard. If the Site D alternative was implemented, the BEQ Complex would be constructed entirely within the Washington Navy Yard boundary.

The No-Action Alternative for the BEQ Complex project is to continue to utilize and maintain the existing inadequate Building 20 BEQ Complex. The No-Action Alternative does not meet the purpose and need for the action, but must be analyzed as the baseline against which the impacts associated with action alternatives will be evaluated.

Alternatives for the renovation and improvement projects to be analyzed in detail in the EIS consist of alternative space layouts and functional space assignments for MBW units. In some cases, the alternatives may be limited to implementing the project or taking no action. The No Action Alternative for the renovation and improvement projects would be to not implement interior renovations, which would result in continued inefficient space utilization functional layouts and energy systems, life safety issues, and hindering MBW's ability to meet sustainability goals.

Environmental Compliance: The EIS would evaluate potential environmental effects associated with each of the alternatives for each of the analyzed projects on the following: safety, land use, recreation, air quality, socioeconomics and environmental justice, water resources, noise, cultural resources, natural resources, traffic/transportation, hazardous materials and waste, and utilities. Relevant and reasonable measures that could avoid or mitigate adverse environmental effects will also be analyzed. Additionally, the USMC will undertake consultations required by the National Historic Preservation Act and any other applicable laws or regulations.

Schedule: This Notice of Intent is the first phase of the EIS process and announces the 30-day public comment period to identify community concerns and local issues that should be addressed in the EIS. The next phase occurs when a Notice of Availability (NOA) is published in the Federal Register and local media to publicly announce the release of the Draft EIS in Summer 2014. A 45-day public comment period for the Draft EIS will commence upon publication of the NOA in the Federal Register. The USMC will consider and respond to all comments received on the Draft EIS when preparing the Final EIS. The USMC intends to issue the Final EIS in Winter 2014/2015, at which time an NOA would be published in the Federal Register and local media.

A Record of Decision is anticipated in early 2015.

Dated: August 29, 2013.
P.A. Richelmi,
Lieutenant, Office of the Judge Advocate General, U.S. Navy, Alternate Federal Register Liaison Officer.

[FR Doc. 2013-21713 Filed 9-5-13; 8:45 am]

BILLING CODE 3810-FF-P